DEPARTMENT OF ENERGY

Federal Energy Regulatory Commission

Combined Notice of Filings #2

Take notice that the Commission received the following electric corporate filings:

Docket Numbers: EC25-108-000.

Applicants: Santa Rosa Energy Center, LLC,AL Santa Rosa, LLC.

Description: Joint Application for Authorization Under Section 203 of the Federal Power Act of Santa Rosa Energy Center, LLC, et al.

Filed Date: 6/30/25.

Accession Number: 20250630-5314.

Comment Date: 5 p.m. ET 7/21/25.

Take notice that the Commission received the following complaints and compliance filings in EL Dockets:

Docket Numbers: EL25-96-000; ER25-2706-000.

Applicants: Pacificorp, Bonneville Power Administration v. PacifiCorp.

Description: Formal Challenge and Complaint of Bonneville Power Administration v. PacifiCorp.

Filed Date: 6/27/25.

Accession Number: 20250627-5297.

Comment Date: 5 p.m. ET 7/17/25.

Docket Numbers: EL25-97-000.

Applicants: Berkshire Hathaway Inc.

Description: Petition for Declaratory Order of Berkshire Hathaway Inc.

Filed Date: 6/30/25.

Accession Number: 20250630-5295.

Comment Date: 5 p.m. ET 7/30/25.

Docket Numbers: EL25-98-000; ER24-2004-000.

Applicants: PacifiCorp, Powerex Corp v. PacifiCorp.

Description: Formal Challenge to the Formula Transmission Rate 2024 Annual Update and Complaint of Powerex Corp v. PacifiCorp.

Filed Date: 6/27/25.

Accession Number: 20250627-5310.

Comment Date: 5 p.m. ET 7/17/25.

Take notice that the Commission received the following electric rate filings:

Docket Numbers: ER10-2374-023; ER17-2059-014.

Applicants: Puget Sound Energy, Inc., Puget Sound Energy, Inc.

Description: Updated Triennial Market Power Analysis for Northwest Region of Puget Sound Energy, Inc.

Filed Date: 6/30/25.

Accession Number: 20250630-5320.

Comment Date: 5 p.m. ET 8/29/25.

Docket Numbers: ER10-2757-011; ER10-1342-009; ER10-3310-018; ER11-3051-007; ER18-53-005.

Applicants: CXA La Paloma, LLC, Macho Springs Power I, LLC, New Harquahala Generating Company, LLC, CP Energy Marketing (US) Inc., Arlington Valley, LLC.

Description: Triennial Market Power Analysis for Southwest Region of Arlington Valley, LLC, et al.

Filed Date: 6/30/25.

Accession Number: 20250630-5327.

Comment Date: 5 p.m. ET 8/29/25.

Docket Numbers: ER17-1329-002.

Applicants: J.P. Morgan Ventures Energy Corporation.

Description: Triennial Market Power Analysis for Central Region of J.P. Morgan Ventures Energy Corporation.

Filed Date: 7/1/24.

Accession Number: 20240701-5443.

Comment Date: 5 p.m. ET 8/30/24.

Docket Numbers: ER18-1775-007; ER14-2666-008; ER15-1218-017; ER16-38-015; ER16-39-014; ER16-2501-011; ER16-2502-011; ER17-157-008; ER17-2341-012; ER17-2453-011; ER18-713-010; ER20-2888-009; ER23-2294-003; ER24-311-002; ER24-1220-001; ER24-2653-001; ER25-156-002.

Applicants: Peregrine Energy Storage, LLC, 69SV 8me LLC, 68SF 8me LLC, Condor Energy Storage, LLC, Vikings Energy Farm LLC, Townsite Solar, LLC,CA Flats Solar 150, LLC, Imperial Valley Solar 3, LLC, CA Flats Solar 130, LLC, Moapa Southern Paiute Solar, LLC, Tropico, LLC, Nicolis, LLC, Kingbird Solar B, LLC, Kingbird Solar A, LLC, Solar Star California XIII, LLC, Avalon Solar Partners, LLC, 64KT 8me LLC.

Description: Updated Triennial Market Power Analysis for Southwest Region of 64KT 8me LLC, et al.

Filed Date: 6/27/25.

Accession Number: 20250627-5311.

Comment Date: 5 p.m. ET 8/26/25.

Docket Numbers: ER19-289-011; ER13-1248-004; ER18-2264-011; ER19-2462-009.

Applicants: Macquarie Energy LLC, Macquarie Energy Trading LLC, Patua Project LLC, Cleco Cajun LLC.

Description: Updated Triennial Market Power Analysis for Northwest Region of Cleco Cajun LLC, et al.

Filed Date: 6/30/25.

Accession Number: 20250630-5324.

Comment Date: 5 p.m. ET 8/29/25.

Docket Numbers: ER19-289-012; ER11-4111-004; ER18-2264-012; ER19-2462-010.

Applicants: Macquarie Energy LLC, Macquarie Energy Trading LLC, Hudson Ranch Power I LLC, Cleco Cajun LLC.

Description: Updated Triennial Market Power Analysis for Southwest Region of Cleco Cajun LLC, et al.

Filed Date: 6/30/25.

Accession Number: 20250630-5331.

Comment Date: 5 p.m. ET 8/29/25.

Docket Numbers: ER20-681-014.

Applicants: Tri-State Generation and Transmission Association, Inc.

Description: Triennial Market Power Analysis for Northwest Region of Tri-State Generation and Transmission Association, Inc.

Filed Date: 6/30/25.

Accession Number: 20250630-5325.

Comment Date: 5 p.m. ET 8/29/25.

Docket Numbers: ER22-2190-005; ER22-2191-005; ER25-154-002.

Applicants: Sandrini BESS Storage LLC, EDPR CA Solar Park II LLC, EDPR CA Solar Park LLC.

Description: Triennial Market Power Analysis for Southwest Region and Notice of Non-Material Change in Status of EDPR CA Solar Park LLC, et al.

Filed Date: 6/30/25.

Accession Number: 20250630-5328.

Comment Date: 5 p.m. ET 8/29/25.

Docket Numbers: ER25-2726-000.

Applicants: CED White River Solar, LLC.

Description: § 205(d) Rate Filing: Southwest Triennial Update to be effective 7/2/2025.

Filed Date: 7/1/25.

Accession Number: 20250701-5010.

Comment Date: 5 p.m. ET 9/2/25.

Docket Numbers: ER25-2727-000.

Applicants: Mesquite Solar 2, LLC.

Description: § 205(d) Rate Filing: Southwest Triennial MBR Update to be effective 7/2/2025.

Filed Date: 7/1/25.

Accession Number: 20250701-5011.

Comment Date: 5 p.m. ET 9/2/25.

Docket Numbers: ER25-2728-000.

Applicants: Mesquite Solar 1, LLC.

Description: § 205(d) Rate Filing: Southwest Triennial MBR Update to be effective 7/2/2025.

Filed Date: 7/1/25.

Accession Number: 20250701-5012.

Comment Date: 5 p.m. ET 9/2/25.

Docket Numbers: ER25-2729-000.

Applicants: Iron Horse Battery Storage, LLC.

Description: § 205(d) Rate Filing: Southwest Triennial MBR Update to be effective 7/2/2025.

Filed Date: 7/1/25.

Accession Number: 20250701-5013.

Comment Date: 5 p.m. ET 9/2/25.

Docket Numbers: ER25-2730-000.

Applicants: CED White River Solar 2, LLC.

Description: § 205(d) Rate Filing: Southwest Triennial Update to be effective 7/2/2025.

Filed Date: 7/1/25.

Accession Number: 20250701-5014.

Comment Date: 5 p.m. ET 9/2/25.

Docket Numbers: ER25-2731-000.

Applicants: Great Valley Solar 3, LLC.

Description: § 205(d) Rate Filing: Southwest Triennial MBR Update to be effective 7/2/2025.

Filed Date: 7/1/25.

Accession Number: 20250701-5015.

Comment Date: 5 p.m. ET 9/2/25.

Docket Numbers: ER25-2732-000.

Applicants: Westside Canal 2A, LLC.

Description: § 205(d) Rate Filing: Southwest Triennial MBR Update to be effective 7/2/2025.

Filed Date: 7/1/25.

Accession Number: 20250701-5016.

Comment Date: 5 p.m. ET 9/2/25.

Docket Numbers: ER25-2733-000.

Applicants: Copper Mountain Solar 1, LLC.

Description: § 205(d) Rate Filing: Southwest Triennial Update to be effective 7/2/2025.

Filed Date: 7/1/25.

Accession Number: 20250701-5017.

Comment Date: 5 p.m. ET 9/2/25.

Docket Numbers: ER25-2734-000.

Applicants: RWE Trading Americas Inc.

Description: § 205(d) Rate Filing: Southwest Triennial MBR Update to be effective 7/2/2025.

Filed Date: 7/1/25.

Accession Number: 20250701-5018.

Comment Date: 5 p.m. ET 9/2/25.

Docket Numbers: ER25-2735-000.

Applicants: Copper Mountain Solar 3, LLC.

Description: § 205(d) Rate Filing: Southwest Triennial Update to be effective 7/2/2025.

Filed Date: 7/1/25.

Accession Number: 20250701-5019.

Comment Date: 5 p.m. ET 9/2/25.

Docket Numbers: ER25-2736-000.

Applicants: CED Wistaria Solar, LLC.

Description: § 205(d) Rate Filing: Southwest Triennial MBR Update to be effective 7/2/2025.

Filed Date: 7/1/25.

Accession Number: 20250701-5020.

Comment Date: 5 p.m. ET 9/2/25.

Docket Numbers: ER25-2737-000.

Applicants: RWE Supply & Trading US, LLC.

Description: § 205(d) Rate Filing: Southwest Triennial MBR Update to be effective 7/2/2025.

Filed Date: 7/1/25.

Accession Number: 20250701-5021.

Comment Date: 5 p.m. ET 9/2/25.

Docket Numbers: ER25-2738-000.

Applicants: RWE Supply & Trading Americas, LLC.

Description: § 205(d) Rate Filing: Southwest Triennial MBR Update to be effective 7/2/2025.

Filed Date: 7/1/25.

Accession Number: 20250701-5022.

Comment Date: 5 p.m. ET 9/2/25.

Docket Numbers: ER25-2739-000.

Applicants: Great Valley Solar 1, LLC.

Description: § 205(d) Rate Filing: Southwest Triennial Update to be effective 7/2/2025.

Filed Date: 7/1/25.

Accession Number: 20250701-5023.

Comment Date: 5 p.m. ET 9/2/25.

Docket Numbers: ER25-2740-000.

Applicants: Great Valley Solar 2, LLC.

Description: § 205(d) Rate Filing: Southwest Triennial Update to be effective 7/2/2025.

Filed Date: 7/1/25.

Accession Number: 20250701-5024.

Comment Date: 5 p.m. ET 9/2/25.

Docket Numbers: ER25-2741-000.

Applicants: Fifth Standard Solar PV, LLC.

Description: § 205(d) Rate Filing: Southwest Triennial Update to be effective 4/21/2023.

Filed Date: 7/1/25.

Accession Number: 20250701-5025.

Comment Date: 5 p.m. ET 9/2/25.

Docket Numbers: ER25-2742-000.

Applicants: RWE Clean Energy Solutions, Inc.

Description: § 205(d) Rate Filing: Southwest Triennial MBR Update to be effective 7/2/2025.

Filed Date: 7/1/25.

Accession Number: 20250701-5026.

Comment Date: 5 p.m. ET 9/2/25.

Docket Numbers: ER25-2743-000.

Applicants: RWE Clean Energy Wholesale Services, Inc.

Description: § 205(d) Rate Filing: Southwest Triennial MBR Update to be effective 7/2/2025.

Filed Date: 7/1/25.

Accession Number: 20250701-5027.

Comment Date: 5 p.m. ET 9/2/25.

Docket Numbers: ER25-2744-000.

Applicants: Copper Mountain Solar 2, LLC.

Description: § 205(d) Rate Filing: Southwest Triennial MBR Update to be effective 7/2/2025.

Filed Date: 7/1/25.

Accession Number: 20250701-5028.

Comment Date: 5 p.m. ET 9/2/25.

Docket Numbers: ER25-2745-000.

Applicants: Alpaugh North, LLC.

Description: § 205(d) Rate Filing: Southwest Triennial MBR Update to be effective 7/2/2025.

Filed Date: 7/1/25.

Accession Number: 20250701-5029.

Comment Date: 5 p.m. ET 9/2/25.

Docket Numbers: ER25-2746-000.

Applicants: Southwest Power Pool, Inc.

Description: § 205(d) Rate Filing: 3434R3 East Texas Electric Cooperative NITSA and NOA to be effective 6/1/2025.

Filed Date: 7/1/25.

Accession Number: 20250701-5147.

Comment Date: 5 p.m. ET 7/22/25.

Docket Numbers: ER25-2747-000.

Applicants: Southwest Power Pool, Inc.

Description: § 205(d) Rate Filing: 1067R14 East Texas Electric Cooperative NITSA and NOA to be effective 6/1/2025.

Filed Date: 7/1/25.

Accession Number: 20250701-5161.

Comment Date: 5 p.m. ET 7/22/25.

Docket Numbers: ER25-2748-000.

Applicants: Midcontinent Independent System Operator, Inc., American Transmission Company LLC.

Description: § 205(d) Rate Filing: American Transmission Company LLC submits tariff filing per 35.13(a)(2)(iii: 2025-07-01_SA 4528 ATC-Columbia Project E&P (J2304) to be effective 8/31/2025.

Filed Date: 7/1/25.

Accession Number: 20250701-5184.

Comment Date: 5 p.m. ET 7/22/25.

Docket Numbers: ER25-2749-000.

Applicants: Greeley Wind Nebraska, LLC.

Description: § 205(d) Rate Filing: Application for Market-Based Rate Authorization—Greeley Wind Nebraska, LLC to be effective 8/31/2025.

Filed Date: 7/1/25.

Accession Number: 20250701-5218.

Comment Date: 5 p.m. ET 7/22/25.

Docket Numbers: ER25-2750-000.

Applicants: Alabama Power Company, Georgia Power Company, Mississippi Power Company.

Description: § 205(d) Rate Filing: Alabama Power Company submits tariff filing per 35.13(a)(2)(iii: Stellar (Dry Creek Solar) LGIA Filing to be effective 6/16/2025.

Filed Date: 7/1/25.

Accession Number: 20250701-5228.

Comment Date: 5 p.m. ET 7/22/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 1, 2025.
Carlos D. Clay,
Deputy Secretary.

[FR Doc. 2025-12549 Filed 7-3-25; 8:45 am]

BILLING CODE 6717-01-P